DEPARTMENT OF TRANSPORTATION

Federal Aviation Administration

14 CFR Part 39

[Docket No. 2001-CE-26-AD; Amendment 39-12404; AD 2001-17-13]

RIN 2120-AA64

Airworthiness Directives; JanAero Devices Part Number (P/N) 14D11, A14D11, B14D11, C14D11, 23D04, A23D04, B23D04, and C23D04 Fuel Regulator Shutoff Valves

AGENCY: Federal Aviation Administration, DOT.

ACTION: Final rule; request for comments.

SUMMARY: This amendment supersedes Airworthiness Directive (AD) 2001-08-01, which applies to certain JanAero Devices (JanAero) 14D11 and 23D04 series fuel regulator shutoff valves used with certain JanAero combustion heaters that are installed on aircraft. AD 2001-08-01 currently requires you to visually inspect and pressure test these fuel regulator shutoff valves for leaks, and, if leaks are found, replace the fuel regulator shutoff valve. Numerous reports of fuel regulator shutoff valves leaking fuel caused the Federal Aviation Administration (FAA) to issue AD 2001-08-01. This amendment retains the actions of AD 2001-08-01, except only the visual inspection or the pressure test will be required instead of both. This amendment also specifically calls out the fuel regulator shutoff valves by part number instead of series, includes provisions for disabling the heater as an alternative method of compliance, and makes other minor clarifying revisions and additions to the AD. The actions specified by this AD are intended to eliminate or severely reduce the potential for fuel leakage in aircraft with these combustion heaters, which could result in an aircraft fire with consequent damage or destruction.

DATES: This AD becomes effective on September 11, 2001.

The Director of the Federal Register previously approved the incorporation by reference of JanAero Devices Service Bulletin No. A-107, dated January 8, 2001, as of May 10, 2001 (66 FR 19720, April 17, 2001).

The FAA must receive any comments on this rule on or before October 5, 2001.

ADDRESSES: Submit comments in triplicate to FAA, Central Region, Office of the Regional Counsel, Attention: Rules Docket No. 2001-CE-26-AD, 901 Locust, Room 506, Kansas City, Missouri 64106.

You may get the service information referenced in this AD from JanAero Devices, Electrosystems-JanAero Devices, P.O. Box 273, Fort Deposit, Alabama 36032; telephone: (334) 227-8306; facsimile: (334) 227-8596; Internet: http://www.kellyaerospace.com. You may examine this information at FAA, Central Region, Office of the Regional Counsel, Attention: Rules Docket No. 2001-CE-26-AD, 901 Locust, Room 506, Kansas City, Missouri 64106; or at the Office of the Federal Register, 800 North Capitol Street, NW., suite 700, Washington, DC.

FOR FURTHER INFORMATION CONTACT: Linda M. Haynes, Aerospace Engineer, FAA, Atlanta Aircraft Certification Office, One Crown Center, 1895 Phoenix Boulevard, suite 450, Atlanta, Georgia 30349; telephone: (770) 703-6091; facsimile: (770) 703-6097.

SUPPLEMENTARY INFORMATION:

Discussion

Has FAA Taken Any Action to This Point?

Reports of leaking JanAero fuel regulator shutoff valves found during routine aircraft inspections caused FAA to issue AD 2001-08-01, Amendment 39-12178 (66 FR 19718, April 17, 2001). This AD requires that you accomplish the following on certain JanAero Devices (JanAero) 14D11 and 23D04 series fuel regulator shutoff valves used with certain JanAero combustion heaters that are installed on aircraft:

—Visually inspect and pressure test the fuel regulator shutoff valves for leaks; and

—If leaks are found, replace the fuel regulator shutoff valve.

Accomplishment of these actions is required in accordance with JanAero Service Bulletin No. A-107, dated January 8, 2001.

The affected fuel regulator shutoff valves are part of the JanAero B1500, B2030, B2500, B3040, B3500, B4050, or B4500 combustion heater configuration.

This condition, if not corrected, could result in fuel leakage in aircraft with these combustion heaters, which could result in an aircraft fire with consequent damage or destruction.

What Has Happened Since AD 2001-08-01 To Initiate This action?

Operators of aircraft with the affected fuel regulatory shutoff valves installed and mechanics who accomplished the actions of the AD provided suggestions for improvement to AD 2001-08-01. Based on this feedback, FAA is superseding AD 2001-08-01. Specifically, this feedback is as follows:

—FAA should only require the visual inspection or the pressure test, but not both;

—FAA should call out the specific fuel regulator shutoff valves by part number instead of series. A series designation allows the aircraft owner/operator to interpret the AD applicability instead of relying on a clear definitive applicability;

—FAA should allow disabling the heater as an alternative method of compliance to the actions of the AD; and

—FAA should include other minor clarifying revisions or additions in the AD, such as including former names of JanAero Devices, Inc., adding the website of the manufacturer, and minor editorial corrections.

The FAA's Determination and an Explanation of the Provisions of This AD

What Has FAA Decided?

After examining the circumstances and reviewing all available information related to the subject above, we have determined that:

—The unsafe condition referenced in this document still exists or could develop on type design aircraft equipped with either a JanAero B1500, B2030, B2500, B3040, B3500, B4050, or B4500 combustion heater;

—The previously-referenced issues specified in the feedback presented to FAA from the public should be incorporated into AD 2001-08-01; and -AD action should be taken in order to correct this unsafe condition.

What Would This AD Require?

This AD supersedes AD 2001-08-01 with a new AD that retains the actions of AD 2001-08-01, except only the visual inspection or the pressure test is required instead of both. This AD also specifically calls out the specific fuel regulator shutoff valves by part number instead of series, includes provisions for disabling the heater as an alternative method of compliance, and makes other minor clarifying revisions or additions to the AD.

Accomplishment of this AD is still required in accordance with JanAero Service Bulletin No. A-107, dated January 8, 2001.

Will I Have the Opportunity To Comment Prior to the Issuance of the Rule?

Because the unsafe condition described in this document could result in an aircraft fire with consequent damage or destruction, FAA finds that notice and opportunity for public prior comment are impracticable. Therefore, good cause exists for making this amendment effective in less than 30 days.

Comments Invited

How Do I Comment on This AD?

Although this action is in the form of a final rule and was not preceded by notice and opportunity for public comment, we invite your comments on the rule. You may submit whatever written data, views, or arguments you choose. You need to include the rule's docket number and submit your comments in triplicate to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention to?

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

We are reviewing the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2001-CE-26-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2001-08-01, Amendment 39-12178 (66 FR 19718, April 17, 2001), and by adding a new AD to read as follows:

2001-17-13 Janaero Devices: Amendment 39-12404; Docket No. 2001-CE-26-AD. Supersedes AD 2001-08-01, Amendment 39-12178.

(a) What aircraft are affected by this AD? This AD applies to aircraft equipped with a JanAero Devices part number 14D11, A14D11, B14D11, C14D11, 23D04, A23D04, B23D04, or C23D04 fuel regulator shutoff valve used with JanAero Devices B1500, B2030, B2500, B3040, B3500, B4050, or B4500 B-Series combustion heaters. The following is a list of aircraft where the B-Series combustion heater could be installed. This is not a comprehensive list and aircraft not on this list that have the heater installed through field approval or other methods are still affected by this AD:

Manufacturer | Aircraft models
Raytheon Aircraft Corporation (Beech) | Beech 95-B55 Series, 58, 58TC, 58P, 60, A60, and 76.
Canadair | CL-215, CL-215T, and CLT-415.
Cessna Aircraft Company (Cessna) | 208, 303, 310F, 310G, 310H, 310I, 310J, 310K, 310L, 310M, 310N, 310P, 310Q, 320C, 320D, 320E, 320F, 337 Series, 340, 340A, 414, 414A, 421, 421A, 421B, and 421C.
The New Piper Aircraft, Inc. (Piper) | PA-23 Series, PA-30, PA-31 Series, PA-34 Series, PA-39, and PA-44.

Note 1: The B1500, B2030, B2500, B3040, B3500, B4050, or B4500 B-Series combustion heaters were previously manufactured by Janitrol, C&D, FL Aerospace, and Midland-Ross Corporation.

(b) Who must comply with this AD? Anyone who wishes to operate any aircraft that is equipped with one of the above-referenced JanAero combustion heaters must comply with this AD.

(c) What problem does this AD address? The actions specified by this AD are intended to eliminate or severely reduce the potential for fuel leakage in aircraft with these combustion heaters, which could result in an aircraft fire with consequent damage or destruction.

(d) What must I do to address this problem? To address this problem, you must accomplish the following actions:

Action | Compliance time | Procedures
(1) Inspect the fuel regulator shutoff valve for fuel leaks. Use the pressure test procedures or visual procedures included in the service information | Within the next 25 hours aircraft time-in-service (TIS) after September 11, 2001 (the effective date of this AD), unless already accomplished (e.g., compliance with AD 2001-08-01), and thereafter prior to installing any fuel regulator shutoff valve on an aircraft | Locate the pressure regulatory shutoff valve in the installation using the applicable maintenance manual's regulator shutoff valve location, removal, and installation instructions. For the pressure test or visual inspection, use the procedures in JanAero Devices Service Bulletin No. A-107, dated January 8, 2001.
(2) If no fuel leaks or no signs of fuel stains are found during each inspection required by paragraph (d)(1) of this AD, mark the valve cover with the date of inspection (month/year) | Prior to further flight after any inspection required by paragraph (d)(1) of this AD | Use permanent ink and letters of at least ⅒-inch, but no larger than ¼-inch, in height and make this mark below the date of manufacturer as specified in JanAero Devices Service Bulletin No. A-107, dated January 8, 2001.
(3) If any fuel leak(s) is/are found during any inspection required by paragraph (d)(1) of this AD, replace the valve. Ensure there are no fuel leaks in the replacement valve by following the inspection and identification requirements of paragraphs (d)(1) and (d)(2) of this AD, respectively | Before further flight after the inspection where any fuel leak was found | In accordance with the applicable maintenance manual.
(4) As an alternative method of compliance to this AD, you may disable the heater provided you immediately comply with the inspection, identification, and replacement requirements of this AD when you bring the heater back into service. Accomplish the following actions when disabling: (i) Cap the fuel supply line; (ii) Disconnect the electrical power and ensure that the connections are properly secured to reduce the possibility of electrical spark or structural damage; (iii) Inspect and test to ensure that the cabin heater system is disabled; (iv) Ensure that no other aircraft system is affected by this action; (v) Ensure there are no fuel leaks; and (vi) Fabricate a placard with the words: “System Inoperative”. Install this placard at the heater control valve within the pilot's clear view | If you choose this option, you must accomplish it before the required inspection times (within the next 25 hours TIS after September 11, 2001, and thereafter prior to further flight after installing any fuel regulator shutoff valve on an aircraft). To bring the heater back into service, you must accomplish the actions of paragraphs (d)(1), (d)(2), and (d)(3) of this AD (inspection, identification, and replacement, as necessary) | Not Applicable.

(e) Can I comply with this AD in any other way? You may use an alternative method of compliance or adjust the compliance time if:

(1) Your alternative method of compliance provides an equivalent level of safety; and

(2) The Manager, Atlanta Aircraft Certification Office approves your alternative. Send your request through an FAA Principal Maintenance Inspector, who may add comments and then send it to the Manager, Atlanta Aircraft Certification Office.

Note 2: This AD applies to any aircraft with the equipment installed as identified in paragraph (a) of this AD, regardless of whether the aircraft has been modified, altered, or repaired in the area subject to the requirements of this AD. For aircraft that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Linda M. Haynes, Aerospace Engineer, FAA, Atlanta Aircraft Certification Office, One Crown Center, 1895 Phoenix Boulevard, suite 450, Atlanta, Georgia 30349; telephone: (770) 703-6091; facsimile: (770) 703-6097.

(g) Are any service bulletins incorporated into this AD by reference? You must accomplish the actions required by this AD in accordance with JanAero Devices Service Bulletin No. A-107, dated January 8, 2001. The Director of the Federal Register previously approved this incorporation by reference under 5 U.S.C. 552(a) and 1 CFR part 51 as of May 10, 2001 (66 FR 19720, April 17, 2001).

(1) You can get copies from JanAero Devices, Electrosystems-JanAero Devices, P.O. Box 273, Fort Deposit, Alabama 36032; telephone: (334) 227-8306; facsimile: (334) 227-8596; Internet: http://www.kellyaerospace.com.

(2) You can look at copies at FAA, Central Region, Office of the Regional Counsel, 901 Locust, Room 506, Kansas City, Missouri, or at the Office of the Federal Register, 800 North Capitol Street, NW., suite 700, Washington, DC.

(h) Does this amendment affect any other regulation? This amendment supersedes AD 2001-08-01, Amendment 39-12178.

(i) When does this amendment become effective? This amendment becomes effective on September 11, 2001.

Issued in Kansas City, Missouri, on August 15, 2001.
Michael Gallagher,
Manager, Small Airplane Directorate, Aircraft Certification Service.

[FR Doc. 01-21010 Filed 8-20-01; 8:45 am]

BILLING CODE 4910-13-P